COMMITTEE FOR THE IMPLEMENTATION OF TEXTILE AGREEMENTS

Clarification of Procedures for Considering Requests from the Public for Textile and Apparel Safeguard Actions on Imports from the People's Republic of China

August 13, 2003.

AGENCY: The Committee for the Implementation of Textile Agreements (The Committee).

ACTION: Clarification of Safeguard Procedures

SUMMARY: This notice clarifies the notice published in the Federal Register on May 21, 2003 (see 68 FR 27787) by the Committee for the Implementation of Textile Agreements (the Committee) of procedures the Committee will follow in considering requests from the public for textile and apparel safeguard actions as provided for in the Report of the Working Party on the Accession of China to the World Trade Organization (the Accession Agreement).

EFFECTIVE DATE: August 18, 2003.

FOR FURTHER INFORMATION CONTACT: William Dulka, Office of Textiles and Apparel, U.S. Department of Commerce, (202) 482-4058.

SUPPLEMENTARY INFORMATION:

Authority: Section 204 of the Agricultural Act of 1956, as amended (7 U.S.C. 1854); Executive Order 11651 of March 3, 1972, as amended.

Background

The Accession Agreement textile and apparel safeguard allows the United States and other World Trade Organization Member countries that believe imports of Chinese origin textile and apparel products are, due to market disruption, threatening to impede the orderly development of trade in these products to request consultations with China with a view to easing or avoiding such market disruption. On May 21, 2003, the Committee published procedures the Committee will follow in considering requests from the public for textile and apparel safeguard actions as provided for in the Accession Agreement in the Federal Register (see 68 FR 27787). Upon further review, the Committee has determined that it is appropriate to clarify those procedures. Beyond the clarifications noted below, those procedures remain unchanged.

The Committee has determined that actions taken under Accession Agreement textile and apparel safeguard on imports from China fall within the foreign affairs exception to the rulemaking provisions of 5 U.S.C. 553(a)(1), and this notice does not waive that determination. This notice is not subject to the requirement to provide prior notice and opportunity for public comment, pursuant to 5 U.S.C. 553(a)(1) and 553(b)(A).

Clarifications

As was set forth in the May 21 notice, a request that has been accepted for consideration, with the exception of information marked “business confidential”, will be posted by the Department of Commerce's Office of Textiles and Apparel (OTEXA) on the Internet (http://www.otexa.ita.doc.gov), along with the Federal Register notice in which public comments on the request are solicited. The May 21 notice also provided that a public record on each request will be maintained, including a non-confidential version of the request that is being considered, a non-confidential version of any public comment received with respect to a request, and, in the event consultations with China are requested, the statement of the reasons and justifications for such request for consultations subsequent to the delivery of the statement to China.

OTEXA will maintain an official record for each request on behalf of the Committee. The official record will include all factual information, written argument, or other material developed by, presented to, or obtained by OTEXA regarding the request, as well as other material provided to the Department of Commerce by other government agencies for inclusion in the official record. The official record will include Committee memoranda pertaining to the request, memoranda of Committee meetings, meetings between OTEXA staff and the public, determinations, and notices published in the Federal Register. The official record will contain material which is public, business confidential, privileged, and classified, but will not include pre-decisional inter-agency or intra-agency communications. If the Committee decides it is appropriate to consider materials submitted in an untimely manner, such materials will be maintained in the official record. Otherwise, such material will be returned to the submitter and will not be maintained as part of the official record.

OTEXA will make the official record public except for business confidential information, privileged information, classified information, and other information the disclosure of which is prohibited by U.S. law. Information designated by the submitter as business confidential will normally be considered to be business confidential unless it is publicly available. The May 21 notice requires that a request or comment that contains business confidential information be accompanied by a non-confidential version in which business confidential information is summarized or, if necessary, deleted. The non-confidential version will be included in the public record. The public record will be available to the public for inspection and copying in a public reading room located in the Department of Commerce.

As was set forth in the May 21 notice, in response to a request or on its own initiative, the Committee will make a determination within 60 calendar days of the close of the comment period as to whether the Committee will request consultations with China. The Committee will make this determination in a manner consistent with longstanding Committee practice in considering textile safeguard actions and the information described in the May 21, 2003 notice.

James C. Leonard III,
Chairman, Committee for the Implementation of Textile Agreements.

[FR Doc.03-21034 Filed 8-15-03; 8:45 am]

BILLING CODE 3510-DR-S